DEPARTMENT OF VETERANS AFFAIRS

[OMB Control No. 2900—New (NVS PILOT)]

Agency Information Collection (Pilot Study for the National Survey of Veterans, Active Duty Service Members, Activated National Guard and Reserve Members, Family Members and Survivors) Activities Under OMB Review

AGENCY: Office of Policy and Planning, Department of Veterans Affairs.

ACTION: Notice.

SUMMARY: In compliance with the Paperwork Reduction Act (PRA) of 1995 (44 U.S.C. 3501-3521), this notice announces that the Office of Policy, Planning and Preparedness (OPP&P), Department of Veterans Affairs, has submitted the collection of information as abstracted below to the Office of Management and Budget (OMB) for review and comment. The PRA submission describes the nature of the information collection and its expected cost and burden; it includes the actual data collection instrument.

DATES: Comments must be submitted on or before January 20, 2009.

ADDRESSES: Submit written comments on the collection of information through www.Regulations.gov; or to VA's OMB Desk Officer, OMB Human Resources and Housing Branch, New Executive Office Building, Room 10235, Washington, DC 20503, (202) 395-7316. Please refer to “OMB Control No. 2900-New (NVS PILOT)” in any correspondence.

FOR FURTHER INFORMATION CONTACT: Denise McLamb, Enterprise Records Service (005R1B), Department of Veterans Affairs, 810 Vermont Avenue, NW., Washington, DC 20420, (202) 461-7485, FAX (202) 273-0443 or e-mail: denise.mclamb@va.gov. Please refer to “OMB Control No. 2900-New (NVS PILOT)”.

SUPPLEMENTARY INFORMATION:

Title: Pilot Study for the National Survey of Veterans (NVS), Active Duty Service Members, Activated National Guard and Reserve Members, Family Members and Survivors.

OMB Control Number: 2900-New (NVS PILOT).

Type of Review: New collection.

Abstract: The pilot will collect information on awareness, demographics, and provide information needed to determine the best sampling scheme and data collection methodology for the NSV data collection effort. The pilot will also assess the response rates and coverage of the populations of interest for the sampling approach for the NSV. One of the VA's many goals is to monitor and improve veteran health and well-being. The scope of the NSV is being expanded to address the requirements of Public Law 108-454, section 805, to assess awareness of VA benefits and services among four populations: Veterans, active duty service members, National Guard and Reserve members activated under Title 10, and spouses and survivors of veterans. Because the NSV collects needed information that is not available in VA administrative files and because of the infrequent administration of the NSV, it is important that we minimize the total survey error associated with the study design. It is for these reasons that the VA has planned to conduct a pilot study to inform the design of the next NSV.

An agency may not conduct or sponsor, and a person is not required to respond to a collection of information unless it displays a currently valid OMB control number. The Federal Register Notice with a 60-day comment period soliciting comments on this collection of information was published on October 10, 2008, at page 60406.

Affected Public: Individuals or households.

Estimated Total Annual Burden: 371 hours.

Estimated Average Burden per Respondent: 4.7 minutes.

Frequency of Response: One-time.

Estimated Number of Respondents: 4,726.

Dated: December 10, 2008.
By direction of the Secretary.
Denise McLamb,
Program Analyst, Enterprise Records Service.

[FR Doc. E8-30283 Filed 12-18-08; 8:45 am]

BILLING CODE 8320-01-P